DEPARTMENT OF THE INTERIOR

Bureau of Ocean Management, Regulation and Enforcement

[Docket No. MMS-2010-OMM-0012]

BOEMRE Information Collection Activity: 1010-0086, Sulphur Operations, Extension of a Collection; Submitted for Office of Management and Budget (OMB) Review; Comment Request

AGENCY: Bureau of Ocean Energy Management, Regulation and Enforcement (BOEMRE), Interior.

ACTION: Notice of extension of an information collection (1010-0086).

SUMMARY: To comply with the Paperwork Reduction Act of 1995 (PRA), we are notifying the public that we have submitted to OMB an information collection request (ICR) to renew approval of the paperwork requirements in the regulations under 30 CFR 250, subpart P, Sulphur Operations. This notice also provides the public a second opportunity to comment on the paperwork burden of these regulatory requirements.

DATES: Submit written comments by October 7, 2010.

ADDRESSES: Submit comments by either fax (202) 395-5806 or e-mail (OIRA_DOCKET@omb.eop.gov) directly to the Office of Information and Regulatory Affairs, OMB, Attention: Desk Officer for the Department of the Interior (1010-0086). Please also submit a copy of your comments to BOEMRE by any of the means below.

• Electronically: Go to http://www.regulations.gov. In the entry titled “Enter Keyword or ID,” enter docket ID MMS-2010-OMM-0012 then click search. Follow the instructions to submit public comments and view supporting and related materials available for this collection. The BOEMRE will post all comments.

• E-mail: cheryl.blundon@boemre.gov. Mail or hand-carry comments to: Department of the Interior; Bureau of Ocean Energy Management, Regulation and Enforcement; Attention: Cheryl Blundon; 381 Elden Street, MS-4024; Herndon, Virginia 20170-4817. Please reference ICR 1010-0086 in your comment and include your name and return address.

FOR FURTHER INFORMATION CONTACT: Cheryl Blundon, Regulations and Standards Branch, (703) 787-1607. You may also contact Cheryl Blundon to obtain a copy, at no cost, of the regulations that require the subject collection of information.

SUPPLEMENTARY INFORMATION: Title: 30 CFR 250, subpart P, Sulphur Operations.

OMB Control Number: 1010-0086.

Abstract: The Outer Continental Shelf (OCS) Lands Act, as amended (43 U.S.C. 1331 et seq. and 43 U.S.C. 1801 et seq.), authorizes the Secretary of the Interior (Secretary) to prescribe rules and regulations to manage the mineral resources of the OCS. Such rules and regulations will apply to all operations conducted under a lease, right-of-use and easement, and pipeline right-of-way. Operations on the OCS must preserve, protect, and develop mineral resources in a manner that is consistent with the need to make such resources available to meet the Nation's energy needs as rapidly as possible; to balance orderly energy resource development with protection of human, marine, and coastal environments; to ensure the public a fair and equitable return on the resources of the OCS; and to preserve and maintain free enterprise competition.

Section 5(a) of the OCS Lands Act requires the Secretary to prescribe rules and regulations “to provide for the prevention of waste, and conservation of the natural resources of the Outer Continental Shelf, and the protection of correlative rights therein” and to include provisions “for the prompt and efficient exploration and development of a lease area.” These authorities and responsibilities are among those delegated to the Bureau of Ocean Energy Management, Regulation and Enforcement (BOEMRE) to ensure that operations in the OCS will meet statutory requirements; provide for safety and protection of the environment; and result in diligent exploration, development, and production of OCS leases. This ICR addresses the regulations at 30 CFR 250, subpart P, Sulphur Operations, and any associated supplementary Notices to Lessees and Operators (NTLs) intended to provide clarification, description, or explanation of these regulations.

Currently, BOEMRE regulates one sulphur lease on the OCS, but it is not active. Therefore, this information collection and its relevant hours represent one respondent.

Regulations implementing these responsibilities are under 30 CFR 250, subpart P. Responses are mandatory. No questions of a sensitive nature are asked. The BOEMRE protects information considered proprietary according to 30 CFR 250.197, “Data and information to be made available to the public or for limited inspection,” and the Freedom of Information Act (5 U.S.C. 552) and its implementing regulations (43 CFR 2).

The BOEMRE uses the information collected to ascertain the condition of drilling sites for the purpose of preventing hazards inherent in sulphur drilling and production operations and to evaluate the adequacy of equipment and/or procedures to be used during the conduct of drilling, well-completion, well-workover, and production operations. The BOEMRE uses the information to:

• Ascertain that a discovered sulphur deposit can be classified as capable of production in paying quantities.

• Ensure accurate and complete measurement of production to determine the amount of sulphur royalty payments due the United States; and that the sale locations are secure, production has been measured accurately, and appropriate follow-up actions are initiated.

• Review expected oceanographic and meteorological conditions to ensure the integrity of the drilling unit (this information is submitted only if it is not otherwise available).

• Review hazard survey data to ensure that the lessee or operator will not encounter geological conditions that present a hazard to operations.

• Ensure the adequacy and safety of firefighting plans; the drilling unit is fit for the intended purpose; and the adequacy of casing for anticipated conditions.

• Review log entries of crew meetings to verify that crew members are properly trained.

• Review drilling, well-completion, well-workover diagrams and procedures, as well as production operation procedures to ensure the safety of the proposed sulphur drilling, well-completion, well-workover and proposed production operations.

• Monitor environmental data during sulphur operations in offshore areas where such data are not already available to provide a valuable source of information to evaluate the performance of drilling rigs under various weather and ocean conditions. This information is necessary to make reasonable determinations regarding safety of operations and environmental protection.

Frequency: Occasional; varies by section.

Description of Respondents: Currently there are no active OCS sulphur lease operators. Our estimates are based on expected responses for one potential respondent.

Estimated Reporting and Recordkeeping Hour Burden: The estimated annual hour burden for this information collection is a total of 903 hours. The following chart details the individual components and estimated hour burdens. In calculating the burdens, we assumed that respondents perform certain requirements in the normal course of their activities. We consider these to be usual and customary and took that into account in estimating the burden.

Citation 30 CFR 250 | Reporting and recordkeeping requirement | Hour burden | Average number of annual reponses | Annual burden hours
Submittals/Notifications
1600; 1617 | Submit exploration or development and production plan | Burden covered under (1010-0151) |  | 0
1617; 1618; 1619(b); 1622 | Submit forms MMS-123 (Application for Permit to Drill), MMS-124 (Application for Permit to Modify), Form MMS-125 (End of Operations Report) | Burden covered under (1010-0141) |  | 0
1605(b)(3) | Submit and/or resubmit data and information on fitness of drilling unit | 4 | 1 submission | 4
1605(d) | Submit results of additional surveys and soil borings upon request* | 1 | 1 submission | 1
1605(f) | Submit application for installation of fixed drilling platforms or structures | Burden covered under (1010-0149). |  | 0
1608 | Submit well casing and cementing plan or modification | 5 | 1 plan | 5
1619(c), (d), (e) | Submit copies of records, logs, reports, charts, etc., upon request | 1 | 8 submissions | 8
1628(b), (d) | Submit application for design and installation features of sulphur production facilities and fuel gas safety system; certify new installation conforms to approved design | 4 | 1 application | 4
1630(a)(6) | Notify BOEMRE of pre-production test and inspection of safety system and commencement of production |  | 2 notifications | 1
1633(b) | Submit application for method of production measurement | 2 | 1 application | 2
Subtotal | 15 responses | 25
Requests
1603(a) | Request determination whether sulphur deposit can produce in paying quantities | 1 | 1 request | 1
1605(e)(5) | Request copy of directional survey (by holder of adjoining lease)* | 1 | 1 request | 1
1607 | Request establishment, amendment, or cancellation of field rules for drilling, well-completion, or well-workover | 8 | 2 requests | 16
1610(d)(7+8) | Request exception to ram-type blowout preventer (BOP) system components rated working pressure | 1 | 1 request | 1
1611(b); 1625(b) | Request exception to water-rated working pressure to test ram-type and annular BOPs and choke manifold | 1 | 1 request | 1
1611(f); 1625(f) | Request exception to recording pressure conditions during BOP tests on pressure charts.* | 1 | 1 request | 1
1612 | Request exception to §§ 250.408/250.462 requirements for well-control drills.* | 1 | 1 request | 1
1615 | Request exception to blind-shear ram or pipe rams and inside BOP to secure wells | 1 | 1 request | 1
1629(b)(3) | Request approval of firefighting systems; post firefighting system diagram | 4 | 1 request | 4
1600 thru 1634 | General departure and/or alternative compliance requests not specifically covered elsewhere in subpart P | 2 | 1 request | 2
Subtotal | 11 responses | 29
Record/Retain
1604(f) | Check traveling-block safety device for proper operation weekly and after each drill-line slipping; enter results in log | ¼ | 1 lessee × 52 wks × 2 rigs = 104 | 26
1605(c) | Report oceanographic, meteorological, and drilling unit performance data upon request.* | 1 | 1 report | 1
1609(a) | Pressure test casing; record time, conditions of testing, and test results in log | 2 | 1 lessee × 60 tests/records = 60 | 120
1611(d)(3); 1625(d)(3) | Record in driller's report the date, time, and reason for postponing pressure testings | 10 minutes | 1 lessee × 6 recordings = 6 | 1
1611(f), (g); 1625(f), (g) | Conduct tests, actuations, inspections, maintenance, and crew drills of BOP systems at least weekly; record results in driller's report; retain records for 2 years following completion of drilling activity | 6 | 1 lessee × 52 weeks = 52 | 312
1613(d) | Pressure test diverter sealing element/valves weekly; actuate diverter sealing element/valves/control system every 24 hours; test diverter line for flow every 24 hours; record test times and results in driller's report | 2 | 1 lessee (daily/weekly during drilling) × 2 rigs × 52 weeks = 104 | 208
1616(c) | Retain training records for lessee and drilling contractor personnel | Burden covered under 1010-0128 | 0
1619(a); 1623(c) | Retain records for each well and all well operations for 2 years; calculate well-control fluid volume and post near operators' station | 12 | 1 lessee | 12
1621 | Conduct safety meetings prior to well-completion or well-workover operations; record date and time | 1 | 1 lessee × 50 meetings/records = 50 | 50
1628(b), (d) | Maintain information on approved design and installation features for the life of the facility | 1 | 1 lessee | 1
1629(b)(1)(ii) | Retain pressure-recording charts used to determine operating pressure ranges for 2 years | 12 | 1 lessee | 12
1630(b) | Maintain records for each safety device installed for 2 years; make available for review | 1 | 1 lessee | 1
1631 | Conduct safety device training prior to production operations and periodically thereafter; record date and time | 1 | 1 lessee × 52 train/records × 2 rigs = 104 | 104
1634(b) | Report evidence of mishandling of produced sulphur or tampering or falsifying any measurement of production | 1 | 1 report | 1
Subtotal | 486 responses | 849
Total Burden | 512 responses | 903
* We included a minimal burden, but it has not been necessary to request these data and/or no submissions received for many years.

Estimated Reporting and Recordkeeping Non-Hour Cost Burden: We have identified no paperwork non-hour cost burdens associated with the collection of information.

Public Disclosure Statement: The PRA (44 U.S.C. 3501, et seq.) provides that an agency may not conduct or sponsor a collection of information unless it displays a currently valid OMB control number. Until OMB approves a collection of information, you are not obligated to respond.

Comments: Section 3506(c)(2)(A) of the PRA (44 U.S.C. 3501, et seq.) requires each agency “* * * to provide notice * * * and otherwise consult with members of the public and affected agencies concerning each proposed collection of information * * *” Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

To comply with the public consultation process, on March 30, 2010, we published a Federal Register notice (75 FR 15718) announcing that we would submit this ICR to OMB for approval. The notice provided the required 60-day comment period. In addition, § 250.199 provides the OMB control number for the information collection requirements imposed by the 30 CFR 250 regulations. The regulations also inform the public that they may comment at any time on the collections of information and provide the address to which they should send comments. We have received no comments in response to these efforts.

If you wish to comment in response to this notice, you may send your comments to the offices listed under the ADDRESSES section of this notice. The OMB has up to 60 days to approve or disapprove the information collection but may respond after 30 days. Therefore, to ensure maximum consideration, OMB should receive public comments by October 7, 2010.

Public Availability of Comments: Before including your address, phone number, email address, or other personal identifying information in your comment, you should be aware that your entire comment—including your personal identifying information—may be made publicly available at any time. While you can ask us in your comment to withhold your personal identifying information from public review, we cannot guarantee that we will be able to do so.

BOEMRE Information Collection Clearance Officer: Arlene Bajusz (703) 787-1025.

Dated: August 30, 2010.
Doug Slitor,
Acting Chief, Office of Offshore Regulatory Programs.

[FR Doc. 2010-22190 Filed 9-3-10; 8:45 am]

BILLING CODE 4310-MR-P